DEPARTMENT OF AGRICULTURE

Rural Utilities Service

Announcement of Grant Application Deadlines and Funding Levels

AGENCY: Rural Utilities Service, USDA.

ACTION: Notice of solicitation of applications.

SUMMARY: USDA Rural Development administers loan and grant programs through the Rural Utilities Service. USDA Rural Development announces the Public Television Digital Transition Grant Program application window for fiscal year (FY) 2009. The FY 2008 funding for the Public Television Station Digital Transition Grant Program was approximately $5 million. This notice is being issued prior to passage of a final appropriations bill, which may or may not provide funding for this program, to allow time to submit proposals and give the Agency adequate time to process applications within the current fiscal year. A Notice of Funding Availability will be published announcing the funding levels, if any, for Public Television Station Digital Transition grants once an appropriations bill has been enacted. Expenses incurred in developing applications will be at the applicant's risk.

DATES: You may submit completed applications for grants on paper or electronically according to the following deadlines:

• Paper copies must carry proof of shipping no later than February 18, 2009 to be eligible for FY 2009 grant funding. Late applications are not eligible for FY 2009 grant funding.

• Electronic copies must be received by February 18, 2009 to be eligible for FY 2009 grant funding. Late applications are not eligible for FY 2009 grant funding.

ADDRESSES: You may obtain the application guide and materials for the Public Television Station Digital Transition Grant Program via the Internet at the following Web site: http://www.usda.gov/rus/telecom/. You may also request the application guide and materials from USDA Rural Development by contacting the appropriate individual listed in section VII of the SUPPLEMENTARY INFORMATION section of this notice.

• Submit completed paper applications for grants to the Telecommunications Program, USDA Rural Development, 1400 Independence Ave., SW., Room 2844, STOP 1550, Washington, DC 20250-1550. Applications should be marked “Attention: Director, Advanced Services Division.”

• Submit electronic grant applications to Grants.gov at the following Web address: http://www.grants.gov/ (Grants.gov), and follow the instructions you find on that Web site.

FOR FURTHER INFORMATION CONTACT: Gary B. Allan, Chief, Universal Services Branch, Advanced Services Division, Telecommunications Program, USDA Rural Development, telephone: (202) 690-4493, fax: (202) 720-1051.

SUPPLEMENTARY INFORMATION:

Overview

Federal Agency: Rural Utilities Service (RUS).

Funding Opportunity Title: Public Television Station Digital Transition Grant Program.

Announcement Type: Initial announcement.

Catalog of Federal Domestic Assistance (CFDA) Number: 10.861.

Dates: You may submit completed applications for grants on paper or electronically according to the following deadlines:

• Paper copies must carry proof of shipping no later than February 18, 2009, to be eligible for FY 2009 grant funding. Late applications are not eligible for FY 2009 grant funding.

• Electronic copies must be received by February 18, 2009, to be eligible for FY 2009 grant funding. Late applications are not eligible for FY 2009 grant funding.

Items in Supplementary Information

I. Funding Opportunity: Brief introduction to the Public Television Station Digital Transition Grant Program.

II. Award Information: Maximum amounts.

III. Eligibility Information: Who is eligible, what kinds of projects are eligible, what criteria determine basic eligibility.

IV. Application and Submission Information: Where to get application materials, what constitutes a completed application, how and where to submit applications, deadlines, items that are eligible.

V. Application Review Information: Considerations and preferences, scoring criteria, review standards, selection information.

VI. Award Administration Information: Award notice information, award recipient reporting requirements.

VII. Agency Contacts: Web, phone, fax, e-mail, contact name.

I. Funding Opportunity

As part of the nation's transition to digital television, the Federal Communications Commission (FCC) requires all television broadcasters to begin broadcasting using digital signals, and to cease analog broadcasting, by February 17, 2009. While most urban public television stations have successfully transitioned to digital, rural public television stations are still lagging behind their urban counterparts. For rural households the digital transition could bring the end of over-the-air public television service. These rural households are the focus of the USDA Rural Development Public Television Station Digital Transition Grant Program.

Most applications to the Public Television Station Digital Transition Grant Program have sought assistance towards the goal of replicating analog coverage areas through transmitter and translator transitions. The first priority has been to initiate digital broadcasting from their main transmitters. As many stations have transitioned their transmitters, the focus has shifted to power upgrades and translators, as well as digital program production equipment and multicasting and datacasting equipment. In FY 2008 awards were made for a transmitter transition, transmitter power maximization, translators, as well as master control and production equipment. When compared with the first few years of the program, as the digital transition progresses, more applications were received for translators and master control and production equipment, than for transmitters. Some stations may not achieve full analog parity in program management and creation until after the February 2009 deadline. Continuation of reliable public television service to all current patrons understandably is still the focus for many broadcasters.

It is important for public television stations to be able to tailor their programs and services (e.g., education services, public health, homeland security, and local news) to the needs of their rural constituents. If public television programming is lost, many school systems may be left without educational programming needed for curriculum compliance.

This notice has been formatted to conform to a policy directive issued by the Office of Federal Financial Management (OFFM) of the Office of Management and Budget (OMB), published in the Federal Register on June 23, 2003 (68 FR 37370). This Notice does not change the Public Television Station Digital Transition Grant Program regulation (7 CFR 1740).

II. Award Information

A. Available Funds

1. General. The Administrator will determine in a future Notice of Funding Availability the amounts that are available for grants in FY 2009 under 7 CFR 1740.1.

2. Grants.

a. The amount available for grants for FY 2009 will be announced in a future Notice of Funding Availability. Under 7 CFR 1740.2, the maximum amount for grants under this program is $750,000 per public television station per year.

b. Assistance instrument: Grant documents appropriate to the project will be executed with successful applicants prior to any advance of funds.

B. Non-Renewal of Public Television Station Digital Transition Grants

Public Television Station Digital Transition grants cannot be renewed. Award documents specify the term of each award, and USDA Rural Development, in its sole discretion, may approve one extension of the expiration date, provided that the Grantee notify USDA Rural Development, in writing at least ten days prior to the expiration date, of the reasons and need for an extension, together with a suggested, revised expiration date.

III. Eligibility Information

A. Who is eligible for grants? (See 7 CFR 1740.3.)

1. Public television stations which serve rural areas are eligible for Public Television Station Digital Transition Grants, regardless of whether urban areas are additionally served. A public television station is a noncommercial educational television broadcast station that is qualified for Community Service Grants by the Corporation for Public Broadcasting under section 396(k) of the Communications Act of 1934.

2. Individuals are not eligible for Public Television Station Digital Transition Grant Program financial assistance directly.

B. What are the basic eligibility requirements for a project?

1. Grants shall be made to perform digital transitions of television broadcasting serving rural areas. Grant funds may be used to acquire, lease, and/or install facilities and software necessary to the digital transition. Specific purposes include:

a. Digital transmitters, translators, and repeaters, including all facilities required to initiate DTV broadcasting. All broadcast facilities acquired with grant funds shall be capable of delivering digital TV (DTV) programming and high-definition television (HDTV) programming, at both the interim and final channel and power authorizations. There is no limit to the number of transmitters or translators that may be included in an application;

b. Power upgrades of existing DTV transmitter equipment, including replacement of existing low-power digital transmitters with digital transmitters capable of delivering the final authorized power level;

c. Studio-to-transmitter links;

d. Equipment to allow local control over digital content and programming, including master control equipment;

e. Digital program production equipment, including cameras, editing, mixing and storage equipment;

f. Multicasting and datacasting equipment;

g. Cost of the lease of facilities, if any, for up to three years; and,

h. Associated engineering and environmental studies necessary to implementation.

2. Matching contributions: There is no requirement for matching funds in this program (see 7 CFR 1740.5).

3. To be eligible for a grant, the Project must not do any of the following (see 7 CFR 1740.7):

a. Include funding for ongoing operations or for facilities that will not be owned by the applicant, except for leased facilities as provided above;

b. Include costs of salaries, wages, and employee benefits of public television station personnel unless they are for construction or installation of eligible facilities;

c. Have been funded by any other source; or

d. Include items bought or built prior to the application deadline specified in this Notice of Solicitation of Applications.

C. See paragraph IV.B of this notice for a discussion of the items that comprise a completed application. You may also refer to 7 CFR 1740.9 for completed grant application items.

IV. Application and Submission Information

A. Where to get application information. The application guide, copies of necessary forms and samples, and the Public Television Station Digital Transition Grant Program regulation are available from these sources:

1. The Internet: http://www.usda.gov/rus/telecom/, or http://www.grants.gov.

2. The USDA Rural Development Advanced Services Division, for paper copies of these materials: (202) 690-4493.

B. What constitutes a completed application?

1. Detailed information on each item required can be found in the Public Television Station Digital Transition Grant Program regulation and application guide. Applicants are strongly encouraged to read and utilize the application guide in addition to the regulation. This Notice does not change the requirements for a completed application specified in the program regulation. The program regulation and application guide provide specific guidance on each of the items listed and the application guide provides all necessary forms and sample worksheets.

2. A completed application must include the following documentation, studies, reports and information in form satisfactory to USDA Rural Development. Applications should be prepared in conformance with the provisions in 7 CFR part 1740, subpart A, and applicable USDA regulations including 7 CFR parts 3015, 3016, and 3019. Applicants must use the application guide for this program containing instructions and all necessary forms, as well as other important information, in preparing their application. Completed applications must include the following:

a. An application for federal assistance, Standard Form 424.

b. An executive summary, not to exceed two pages, describing the public television station, its service area and offerings, its current digital transition status, and the proposed project.

c. Evidence of the applicant's eligibility to apply under this Notice, proving that the applicant is a Public Television Station as defined in this Notice, and that it is required by the FCC to perform the digital transition.

d. A spreadsheet showing the total project cost, with a breakdown of items sufficient to enable USDA Rural Development to determine individual item eligibility.

e. A coverage contour map showing the digital television coverage area of the application project. This map must show the counties (or county) comprising the Core Coverage Area by shading and by name. Partial counties included in the applicant's Core Coverage Area must be identified as partial and must contain an attachment with the applicant's estimate of the percentage that its coverage contour comprises of the total area of the county (total area is available from American Factfinder, referenced above). If the application is for a translator, the coverage area may be estimated by the applicant through computer modeling or some other reasonable method, and this estimate is subject to acceptance by USDA Rural Development.

f. The applicant's own calculation of its Rurality score, supported by a worksheet showing the population of its Core Coverage Area, and the urban and rural populations within the Core Coverage Area. The data source for the urban and rural components of that population must be identified. If the application includes computations made by a consultant or other organization outside the public television station, the application shall state the details of that collaboration.

g. The applicant's own calculation of its Economic Need score, supported by a worksheet showing the National School Lunch Program eligibility levels for all school districts within the Core Coverage Area and averaging these eligibility percentages. The application must include a statement from the state or local organization that administers the NSLP program certifying the school district scores used in the computations.

h. If applicable, a presentation not to exceed five pages demonstrating the Critical Need for the project.

i. Evidence that the FCC has authorized the initiation of digital broadcasting at the project sites. In the event that an FCC construction permit has not been issued for one or more sites, USDA Rural Development may include those sites in the grant, and make advance of funds for that site conditional upon the submission of a construction permit.

j. Compliance with other Federal statutes. The applicant must provide evidence or certification that it is in compliance with all applicable Federal statutes and regulations, including, but not limited to the following:

(1) Executive Order (E.O.) 11246, Equal Employment Opportunity, as amended by E.O. 11375 and as supplemented by regulations contained in 41 CFR part 60;

(2) Architectural barriers;

(3) Flood hazard area precautions;

(4) Assistance and Real Property Acquisition Policies Act of 1970;

(5) Drug-Free Workplace Act of 1998 (41 U.S.C. 701);

(6) E.O.s 12549 and 12689, Debarment and Suspension; and

(7) Byrd Anti-Lobbying Amendment (31 U.S.C. 1352).

k. Environmental impact and historic preservation. The applicant must provide details of the digital transition's impact on the environment and historic preservation, and comply with 7 CFR Part 1794, which contains the Agency's policies and procedures for implementing a variety of federal statutes, regulations, and executive orders generally pertaining to the protection of the quality of the human environment. This must be contained in a separate section entitled “Environmental Impact of the Digital Transition,” and must include the Environmental Questionnaire/Certification, available from USDA Rural Development, describing the impact of its digital transition. Submission of the Environmental Questionnaire/Certification alone does not constitute compliance with 7 CFR part 1794.

3. DUNS Number. As required by the OMB, all applicants for grants must now supply a Dun and Bradstreet Data Universal Numbering System (DUNS) number when applying. The Standard Form 424 (SF-424) contains a field for you to use when supplying your DUNS number. Obtaining a DUNS number costs nothing and requires a short telephone call to Dun and Bradstreet. Please see the Public Television Station Digital Transmitter Grant Program Web site or Grants.gov for more information on how to obtain a DUNS number or how to verify your organization's number.

C. How many copies of an application are required?

1. Applications submitted on paper: Submit the original application and two (2) copies to USDA Rural Development.

2. Electronically submitted applications: The additional paper copies for USDA Rural Development are not necessary if you submit the application electronically through Grants.gov.

D. How and Where To Submit an Application

Grant applications may be submitted on paper or electronically.

1. Submitting Applications on Paper

a. Address paper applications for grants to the Telecommunications Program, USDA Rural Development, 1400 Independence Ave., SW., Room 2844, STOP 1550, Washington, DC 20250-1550. Applications should be marked “Attention: Director, Advanced Services Division.”

b. Paper applications must show proof of mailing or shipping consisting of one of the following:

(i) A legibly dated postmark applied by the U.S. Postal Service;

(ii) A legible mail receipt with the date of mailing stamped by the USPS; or

(iii) A dated shipping label, invoice, or receipt from a commercial carrier.

c. Non-USPS-applied postage dating, i.e. dated postage meter stamps, do not constitute proof of the date of mailing.

d. Due to screening procedures at the Department of Agriculture, packages arriving via the USPS are irradiated, which can damage the contents. USDA Rural Development encourages applicants to consider the impact of this procedure in selecting their application delivery method.

2. Electronically Submitted Applications

a. Applications will not be accepted via facsimile machine transmission or electronic mail.

b. Electronic applications for grants will be accepted if submitted through the Federal government's Grants.gov Web site at http://www.grants.gov.

c. How to use Grants.gov:

(i) Navigate your Web browser to http://www.grants.gov.

(ii) Follow the instructions on that Web site to find grant information.

(iii) Download a copy of the application package.

(iv) Complete the package off-line.

(v) Upload and submit the application via the Grants.gov Web site.

d. Grants.gov contains full instructions on all required passwords, credentialing and software.

e. USDA Rural Development encourages applicants who wish to apply through Grants.gov to submit their applications in advance of the deadline. Difficulties encountered by applicants filing through Grants.gov will not justify filing deadline extensions.

f. If a system problem occurs or you have technical difficulties with an electronic application, please use the customer support resources available at the Grants.gov Web site.

E. Deadlines

1. Paper applications must be postmarked and mailed, shipped, or sent overnight no later than February 18, 2009 to be eligible for FY 2009 grant funding. Late applications are not eligible for FY 2009 grant funding.

2. Electronic grant applications must be received by February 18, 2009 to be eligible for FY 2009 funding. Late applications are not eligible for FY 2009 grant funding.

V. Application Review Information

A. Criteria

1. Grant applications are scored competitively and subject to the criteria listed below.

2. Grant application scoring criteria are detailed in 7 CFR 1740.8. There are 100 points available, broken down as follows:

a. The Rurality of the Project (up to 50 points);

b. The Economic Need of the Project's Service Area (up to 25 points); and

c. The Critical Need for the project, and of the applicant, including the benefits derived from the proposed service (up to 25 points).

B. Review Standards

1. All applications for grants must be delivered to USDA Rural Development at the address and by the date specified in this notice to be eligible for funding. USDA Rural Development will review each application for conformance with the provisions of this part. USDA Rural Development may contact the applicant for additional information or clarification.

2. Incomplete applications as of the deadline for submission will not be considered. If an application is determined to be incomplete, the applicant will be notified in writing and the application will be returned with no further action.

3. Applications conforming with this part will be evaluated competitively by a panel of USDA Rural Development employees selected by the Utilities Programs Administrator, and will be awarded points as described in the scoring criteria in 7 CFR 1740.8. Applications will be ranked and grants awarded in rank order until all grant funds are expended.

4. Regardless of the score an application receives, if USDA Rural Development determines that the Project is technically or financially infeasible, USDA Rural Development will notify the applicant, in writing, and the application will be returned with no further action.

C. Scoring Guidelines

1. The applicant's self scores in Rurality and Economic Need will be verified and, if necessary, corrected by USDA Rural Development.

2. The Critical Need score will be determined by USDA Rural Development based on information presented in the application. This score is intended to capture from the rural public's standpoint the necessity and usefulness of the proposed project. This scoring category will also recognize that some transition purchases are more essential than others, so that first time transmitter transitions and power upgrades of previously installed transmitters will receive scoring advantages. Master control equipment is very important to a station's operation and first time master control equipment will also get a high priority. Local production equipment can be a high priority especially if it produces an area's only local news or if the station has been historically active in producing local programming. Translators always deliver a great deal of rural benefit and a full digital conversion of a translator will receive recognition in the project's critical need score.

VI. Award Administration Information

A. Award Notices

USDA Rural Development recognizes that each funded project is unique, and therefore may attach conditions to different projects' award documents. The Agency generally notifies applicants whose projects are selected for awards by faxing an award letter. USDA Rural Development follows the award letter with a grant agreement that contains all the terms and conditions for the grant. An applicant must execute and return the grant agreement, accompanied by any additional items required by the grant agreement.

B. Administrative and National Policy Requirements

The items listed in the program regulation at 7 CFR 1740.9(j) implement the appropriate administrative and national policy requirements.

C. Performance Reporting

All recipients of Public Television Station Digital Transition Grant Program financial assistance must provide annual performance activity reports to USDA Rural Development until the project is complete and the funds are expended. A final performance report is also required; the final report may serve as the last annual report. The final report must include an evaluation of the success of the project.

VII. Agency Contacts

A. Web site: http://www.usda.gov/rus/. The Web site maintains up-to-date resources and contact information for the Public Television Station Digital Transition Grant Program.

B. Phone: 202-690-4493.

C. Fax: 202-720-1051.

D. Main point of contact: Gary B. Allan, Chief, Universal Services Branch, Advanced Services Division, Telecommunications Program, USDA Rural Development, telephone: (202) 690-4493, fax: (202) 720-1051.

October 28, 2008.
James M. Andrew,
Administrator, Rural Utilities Service.

[FR Doc. E8-27608 Filed 11-19-08; 8:45 am]

BILLING CODE 3410-15-P